DEPARTMENT OF COMMERCE

National Oceanic and Atmospheric Administration

[I.D. 013107E]

Endangered and Threatened Species; Take of Anadromous Fish

AGENCY: National Marine Fisheries Service (NMFS), National Oceanic and Atmospheric Administration (NOAA), Commerce.

ACTION: Notice of availability and request for comments.

SUMMARY: Notice is hereby given that the State of Washington through the Governor's Salmon Recovery Office (GSRO) has submitted a Habitat Restoration Program (HRP) pursuant to protective regulations promulgated under the Endangered Species Act (ESA). The HRP would affect ten Evolutionarily Significant Units (ESUs) of threatened salmonids in Washington State. This document serves to notify the public of the availability of the HRP for review and comment before a final approval or disapproval is made by NMFS.

DATES: Written comments on the draft HRP must be received at the appropriate address or fax number (see ADDRESSES) no later than 5 p.m. Pacific Standard Time March 14, 2007.

ADDRESSES: Written comments should be sent to Matthew Longenbaugh, Habitat Conservation Division, National Marine Fisheries Service, 510 Desmond Drive, Suite 103, Lacey, Washington 98503. Comments may also be faxed to 360-753-9517. Copies of the entire HRP are available on the http://www.governor.wa.gov/gsro/ or from the address posted on that site. Comments will be accepted via email at HRP-WA-GSRO-comment@noaa.gov or the Internet.

FOR FURTHER INFORMATION CONTACT: Matthew Longenbaugh at phone number 360-753-7761, or e-mail: Matthew.Longenbaugh@noaa.gov .

SUPPLEMENTARY INFORMATION: This notice is relevant to the following ten threatened salmonid ESUs: Puget Sound, Lower Columbia River, and Snake River spring/summer Chinook salmon (Oncorhynchus tshawytscha); Hood Canal summer-run and Columbia River chum salmon (O. keta); Lower Columbia River coho salmon (O. kisutch); Snake River Basin, Lower Columbia River, Middle Columbia River, and Upper Columbia River steelhead (O. mykiss).

Background

The GSRO submitted the HRP for habitat restoration activities that might affect certain salmonid ESUs listed as threatened in Washington State. The HRP was designed so that habitat restoration activities would be protective of salmonids and their habitat.

The HRP defines what activities are habitat restorations. These consist of restoration activities that are funded by the WA Salmon Recovery Funding Board (SRFB), specifically address a major limiting factor identified in a watershed-based salmon recovery plan, are consistent with approved Washington State technical guidance, are identified in a salmon recovery implementation plan, have proceeded through a process that ensures technical suitability and public participation, and would not result in significant negative effects.

Finally, the HRP is being analyzed by NMFS for possible biological effects of implementing habitat restoration activities. The biological opinion will analyze the effects of the HRP on listed salmonids and their habitat statewide. Before NMFS can decide whether to approve the HRP, the biological opinion must conclude that the identified habitat restoration activities conducted throughout Washington State under the HRP will not jeopardize listed salmonids or result in destruction or adverse modification of designated critical habitat. In addition, approval or disapproval of the HRP will depend on NMFS' findings after public review and comment.

As specified in the July 10, 2000, ESA 4(d) rule for salmon and steelhead (65 FR 42422), NMFS may approve a habitat restoration program of the state, provided that NMFS finds the activities to be consistent with the conservation of listed salmonids' habitat (50 CFR 223.203(b)(8). Prior to final approval of a habitat restoration program, NMFS must publish notification in the Federal Register announcing the program's availability for public review and comment, hence this notice.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids and sets out the criteria for such activities.

The rule further provides that the prohibitions of paragraph (a) of the rule do not apply to activities associated with SRFB-funded habitat restoration provided that the state program has been approved by NMFS to be in accordance with the salmon and steelhead 4(d) rule (65 FR 42422, July 10, 2000).

Dated: February 6, 2007.
Angela Somma,
Chief, Endangered Species Division, Office of Protected Resources, National Marine Fisheries Service.

[FR Doc. E7-2340 Filed 2-9-07; 8:45 am]

BILLING CODE 3510-22-S